DEPARTMENT OF TRANSPORTATION

Office of the Secretary

Application of Rugby Aviation LLC D/B/A Northwest Sky Ferry for Commuter Air Carrier Authority

AGENCY: Department of Transportation.

ACTION: Notice of Order to Show Cause (Order 2010-2-7) Docket OST-2009-0188.

SUMMARY: The Department of Transportation is directing all interested persons to show cause why it should not issue an order finding Rugby Aviation, LLC d/b/a Northwest Sky Ferry fit, willing, and able, and awarding it commuter air carrier authority to conduct scheduled commuter service.

DATES: Persons wishing to file objections should do so no later than February 26, 2010.

ADDRESSES: Objections and answers to objections should be filed in Docket DOT-OST-2009-0188 and addressed to Docket Operations, (M-30, Room W12-140), U.S. Department of Transportation, 1200 New Jersey Avenue, SE., Washington, DC 20590, and should be served upon the parties listed in Attachment A to the order.

FOR FURTHER INFORMATION CONTACT: Catherine O'Toole, Air Carrier Fitness Division (X-56, Room W86-489), U.S. Department of Transportation, 1200 New Jersey Avenue, SE., Washington, DC 20590, (202) 366-9721.

Dated: February 16, 2010.
Susan L. Kurland,
Assistant Secretary For Aviation and International Affairs.

[FR Doc. 2010-3452 Filed 2-22-10; 8:45 am]

BILLING CODE P